DEPARTMENT OF THE INTERIOR

National Park Service

[NPS-NER-BOHA-11636; 1727 SZS]

Notice of Meeting for Boston Harbor Islands National Recreation Area Advisory Council

AGENCY: National Park Service, Interior.

ACTION: Notice of meeting.

SUMMARY: Under section 10(a)(2) of the Federal Advisory Committee Act (5 U.S.C. App.) the National Park Service (NPS) is hereby giving notice that the Boston Harbor Islands National Recreation Area Advisory Council will hold a meeting. This meeting is open to the public. Topics to be discussed include a report from the Council's environmental interest group, a summer review of park operations, activation of the nominating committee, and public comment. Preregistration is not required for public attendance and comment. Those wishing to submit written comments may contact the Designated Federal Official for the Boston Harbor Islands Advisory Council, Bruce Jacobson, Superintendent, by mail at 408 Atlantic Avenue, Suite 228, Boston, MA 02110, or by email at Bruce_Jacobson@nps.gov. Before including your address, phone number, email address, or other personal identifying information in your comment, you should be aware that your entire comment—including your personal identifying information—may be made publicly available at any time. While you can ask us in your comment to withhold your personal identifying information from public review, we cannot guarantee that we will be able to do so.

DATES: The Boston Harbor Islands Advisory Council will meet from 4:00 p.m. to 6:00 p.m. on December 5, 2012, (EASTERN).

Location: The meeting will be held at Mariner's House, 11 North Square, Boston, MA 02113.

FOR FURTHER INFORMATION CONTACT: Bruce Jacobson, Superintendent, Boston Harbor Islands National Recreation Area, at (617) 223-8669 or Bruce_Jacobson@nps.gov.

SUPPLEMENTARY INFORMATION: The Advisory Council was appointed by the Director of National Park Service pursuant to Public Law 104-333. The 28 members represent business, educational/cultural, community and environmental entities; municipalities surrounding Boston Harbor; Boston Harbor advocates; and Native American interests. The purpose of the Council is to advise and make recommendations to the Boston Harbor Islands Partnership with respect to the development and implementation of a management plan and the operations of the Boston Harbor Islands National Recreation Area.

Dated: November 16, 2012.
Bruce Jacobson,
Superintendent, Boston Harbor Islands NRA.

[FR Doc. 2012-28397 Filed 11-21-12; 8:45 am]

BILLING CODE 4310-WV-P